DEPARTMENT OF THE TREASURY

United States Mint

Pricing for the 2020 Women's Suffrage Centennial Silver Dollar

AGENCY: United States Mint, Department of the Treasury.

ACTION: Notice.

SUMMARY: The United States Mint is announcing pricing for the 2020 Women's Suffrage Centennial Silver Dollar products as follows:

Product | Introductory Price | Regular Price
Proof Silver Dollar | $69.00 | $74.00
Uncirculated Silver Dollar | 64.00 | 69.00
Proof Silver Dollar and Medal Set | N/A | 120.00

FOR FURTHER INFORMATION CONTACT: Rosa Matos, Program Manager for Sales and Marketing; United States Mint; 801 9th Street NW; Washington, DC 20220; or call 202-354-7500.

Authority: Public Law 116-71.

Eric Anderson,
Executive Secretary, United States Mint.

[FR Doc. 2020-15075 Filed 7-10-20; 8:45 am]

BILLING CODE P